DEPARTMENT OF HOUSING AND URBAN DEVELOPMENT

[Docket No. FR-5033-FA-02]

Announcement of Funding Awards for Fiscal Year (FY) 2005 for the Katrina Disaster Housing Assistance Program

AGENCY: Office of the Assistant Secretary for Public and Indian Housing, HUD.

ACTION: Announcement of funding awards.

SUMMARY: In accordance with HUD's regulations implementing the Department of Housing and Urban Development Reform Act of 1989, this document notifies the public of Fiscal Year (FY) 2005 funding awards made noncompetitively to public housing agencies (PHAs) under the Katrina Disaster Housing Assistance Program (KDHAP). The purpose of the KDHAP is to support a joint temporary housing assistance program between HUD and the Federal Emergency Management Agency (FEMA). KDHAP was funded using FEMA FY2005 assistance. The notice identifies the PHA recipients, and the amount of their awards.

FOR FURTHER INFORMATION CONTACT: David A. Vargas, Director, Office of Housing Voucher Programs, Office of Public and Indian Housing, Department of Housing and Urban Development, 451 Seventh Street, SW., Room 4226, Washington, DC 20410-5000, telephone (202) 708-2815. Hearing- or speech-impaired individuals may call HUD's TTY number at (800) 927-7589. (Only the “800” telephone number is toll-free.)

SUPPLEMENTARY INFORMATION: In late August 2005, Hurricane Katrina hit the Gulf Coast area of the United States causing unprecedented and catastrophic damage to property, significant loss of life, and the displacement of tens of thousands of individuals from their homes and communities. President Bush called upon all Federal agencies to do everything in their power to assist the victims of Hurricane Katrina. Recognizing that moving displaced families out of temporary shelters into more permanent housing is a key element in helping families return to some degree of normalcy, the Federal Emergency Management Agency (FEMA), through a Mission Assignment, tasked HUD to assume a major role in this relief effort by administering the Katrina Disaster Housing Assistance Program (KDHAP).

On September 23, 2005, HUD and FEMA jointly announced the establishment of KDHAP, a housing assistance program funded using FEMA FY2005 assistance. KDHAP was a temporary program designed to streamline the processing of families who lost housing as a result of Hurricane Katrina, and relocate families already in the HUD rental assistance programs. The temporary program took effect on October 1, 2005.

KDHAP provides a temporary monthly rent subsidy to assist certain families displaced by Hurricane Katrina in obtaining decent, safe, and sanitary housing in the privately owned rental market. It was determined that PHAs are uniquely positioned to help displaced families lease privately owned rental units throughout the country. Through the administration of HUD's Housing Choice Voucher Program, PHAs are familiar with their rental markets and available housing stock. These PHAs work with private landlords and assist families in finding decent, safe, and sanitary housing in the privately owned rental market on a regular basis. It is important, however, not to confuse KDHAP with the regular Housing Choice Voucher Program. HUD provides separate funding for KDHAP. Although there are many common principles and the general structure of the relationship between owner, family, and PHA remain the same, there are also significant differences in program requirements.

In order to participate, a PHA must already be administering a housing choice voucher program. Family eligibility is dependent on several criteria. The family must be displaced by Hurricane Katrina and must be registered with FEMA no later than March 11, 2006. Furthermore, the family must have either been previously assisted under certain HUD assisted housing programs or must qualify as pre-disaster homeless families.

More detailed information about this program can be found in KDHAP's User Guide, located at http://www.hud.gov/offices/pih/systems/pic/docs/kdhapappguide.pdf and in the notice of the Office of Public and Indian Housing titled “Katrina Disaster Housing Assistance Program (KDHAP) Operating Requirements, Notice PIH 2005-36,” and located at http://www.hud.gov/offices/pih/publications/notices/05/pih2005-36.pdf.

With respect to funding participating PHAs, KDHAP provides that when a unit is selected by the family and is approved by the PHA, the owner and the PHA enter into a KDHAP rent subsidy contract and the family and the owner execute a lease and the KDHAP lease addendum. For certain previously HUD-assisted families, the PHA will receive a one-time fee of $1,000 for successfully placing the family in addition to an on going monthly administrative fee. Under the KDHAP rent subsidy contract, the PHA pays security deposit assistance and a monthly rent subsidy directly to the owner on behalf of the family. The PHA also pays assistance for deposits for utilities directly to the utility companies on behalf of the family. HUD provides the PHA with funding for the security deposit assistance, utility deposit assistance, and monthly rent subsidy directly to the PHA. This funding is in addition to the $1,000 placement fee and the on going monthly administrative fee. The monthly rent subsidy is based on the FMR. Family income is not considered in calculating the monthly rent subsidy. KDHAP is temporary assistance for a term not to exceed 18 months.

A total of $8,288,753 in budget authority for KDHAP for 2,148 units was awarded to KDHAP participating PHAs.

In accordance with 24 CFR 4.7 of HUD's regulations in 24 CFR part 4 implementing the Department of Housing and Urban Development Reform Act of 1989 (103 Stat. 1987, 42 U.S.C. 3545), the Department is publishing the names, addresses, and amounts of those awards to KDHAP participating PHAs as shown in Appendix A.

Dated: February 14, 2006.
Orlando J. Cabrera,
Assistant Secretary for Public and Indian Housing.

Katrina Disaster Housing Assistance Program Announcement of Funding Awards for Fiscal Year 2005
Housing agency | Address | Units | Award
HA OF BIRMINGHAM DIST | 1826 3RD AVE. SOUTH, BIRMINGHAM, AL 35233 | 47 | 163,420
CITY OF LOS ANGELES HSG AUTH | 2600 WILSHIRE BLVD, 3RD FL, LOS ANGELES, CA 90057 | 31 | 150,387
HA OF AUGUSTA | P O BOX 3246, AUGUSTA, GA 30914 | 63 | 234,024
HA OF JONESBORO | P O BOX 458, JONESBORO, GA 30237 | 62 | 271,472
COLLEGE PARK HA | 1620 VIRGINIA AVE, ATLANTA, GA 30337 | 48 | 209,831
HA OF DE KALB COUNTY | P O BOX 1627, DECATUR, GA 30031 | 124 | 545,013
HA OF FULTON COUNTY | 10 PARK PLACE, SE, STE 550, ATLANTA, GA 30303 | 29 | 124,775
SHREVEPORT HA | 2500 LINE AVE, SHREVEPORT, LA 71104 | 6 | 23,244
LAFAYETTE CITY HA | 100 C O CIRCLE, LAFAYETTE, LA 70501 | 161 | 623,711
WEST BATON ROUGE PH. COUNCIL | 213 EAST BLVD, BATON ROUGE, LA 70802 | 33 | 129,454
BATON ROUGE CITY HA | P O BOX 1471, BATON ROUGE, LA 70821 | 28 | 108,471
HA OF MISSISSIPPI REGIONAL NO 7 | P O BOX 886, MC COMB, MS 39648 | 36 | 118,625
MISSISSIPPI REGIONAL HA VI | P O DRAWER 8746, JACKSON, MS 39284 | 85 | 302,617
HA OF MEMPHIS | 700 ADAMS AVE, MEMPHIS, TN 38105 | 48 | 172,141
AUSTIN HA | P O BOX 6159, AUSTIN, TX 78762 | 78 | 344,200
FORT WORTH HA | 1201 E. 13TH ST, FORT WORTH, TX 76101 | 22 | 80,488
SAN ANTONIO HA | 818 S. FLORES ST, SAN ANTONIO, TX 78295 | 365 | 1,299,233
DALLAS HA | 3939 N. HAMPTON RD, DALLAS, TX 75212 | 769 | 2,979,091
GALVESTON HA | 4700 BROADWAY, GALVESTON, TX 77551 | 76 | 278,771
DE KALB HA | 400 HERITAGE LANE, DE KALB, TX 75559 | 36 | 129,785
Total for Katrina Disaster Housing Assistance Program |  | 2,148 | $8,288,753

[FR Doc. E6-2508 Filed 2-21-06; 8:45 am]

BILLING CODE 4210-67-P